ENVIRONMENTAL PROTECTION AGENCY

[FRL-7234-2]

Announcement of a Stakeholder Meeting on Preliminary Regulatory Determinations for Priority Contaminants on the Drinking Water Contaminant Candidate List

AGENCY: Environmental Protection Agency.

ACTION: Notice of a stakeholder meeting.

SUMMARY: The Environmental Protection Agency (EPA) has scheduled a public meeting to discuss the results of the Agency's preliminary regulatory determinations for nine CCL contaminants together with the determination process, rationale, and supporting technical information for each. The Federal Register notice that announced the Preliminary Regulatory Determinations for Priority Contaminants on the Drinking Water Contaminant Candidate List was published by EPA on June 3, 2002.

DATES: The stakeholder meeting will be held from 9 a.m. to 5:00 p.m. eastern time, on July 16, 2002.

ADDRESSES: The meeting will be at the Washington Plaza Hotel, phone (202) 842-1300, or (800) 424-1140, located at 10 Thomas Circle, NW (corner of M and 14th Streets) in downtown Washington, DC. The hotel is a short distance from both the McPherson Square Metro Station (Orange and Blue Lines) and Farragut North Metro Station (Red Line).

FOR FURTHER INFORMATION CONTACT: For technical inquiries regarding the Contaminant Candidate List Preliminary Determinations contact: Ms. Karen Wirth, (202) 564-5246, e-mail:wirth.karen@epa.gov; or Mr. Tom Carpenter, (202) 564-4885, e-mail:carpenter.thomas@epa.gov. For registration and general information about this meeting, please contact Ms. Paula Moreno at RESOLVE, Inc., 1255 23rd Street, NW., Suite 275, Washington, DC. 20037, by phone: (202) 965-6218; by fax: (202) 338-1264, or by e-mail at pmoreno@resolv.org. Those registered by July 8, 2002 will receive background materials prior to the meeting. Additional information on these and other EPA activities under SDWA is available at the Safe Drinking Water Hotline at (800) 426-4791.

SUPPLEMENTARY INFORMATION: The Safe Drinking Water Act (SDWA), as amended in 1996, directs the Environmental Protection Agency (EPA) to publish a list of contaminants (referred to as the Contaminant Candidate List, or CCL) to assist in priority-setting efforts. SDWA also directs the Agency to select five or more contaminants from the current CCL and determine by August 2001 whether or not to regulate these contaminants with a National Primary Drinking Water Regulation (NPDWR). EPA developed an approach, or protocol, for the review of CCL contaminants in consultation with stakeholders. EPA has applied this protocol to the Agency's 1998 CCL. The review focused on 8 chemical and 1 microbiological contaminants. The meeting will provide stakeholders information on EPA's protocol for the review of these 9 contaminants and EPA's preliminary determinations. Comments on the CCL preliminary regulatory determinations must be submitted in writing to the Agency's Water Docket (W-01-03 Comments Clerk) by August 2, 2002.

There will be a limited number of teleconference lines available for those who are unable to attend in person. Information about how to access these lines will accompany the pre-meeting materials to be mailed out to those who register, and also will be available prior to the day of this meeting through the previously-noted point of contact at RESOLVE, Inc. On-site registration for this meeting will occur from 8:45 a.m. to 9 a.m.

Any person needing special accommodations at this meeting, including wheelchair access, should contact the same previously-noted point of contact at RESOLVE, Inc., at least five business days before the meeting so that the Agency can make appropriate arrangements.

Dated: June 13, 2002.
Cynthia C. Dougherty,
Director, Office of Ground Water and Drinking Water.

[FR Doc. 02-15462 Filed 6-18-02; 8:45 am]

BILLING CODE 6560-50-P